DEPARTMENT OF COMMERCE

National Oceanic and Atmospheric Administration

50 CFR Part 679

[Docket No. 161020985-7181-02]

RIN 0648-XF859

Fisheries of the Exclusive Economic Zone Off Alaska; Reallocation of Pacific Cod in the Bering Sea and Aleutian Islands Management Area

AGENCY: National Marine Fisheries Service (NMFS), National Oceanic and Atmospheric Administration (NOAA), Commerce.

ACTION: Temporary rule; reallocation.

SUMMARY: NMFS is reallocating the projected unused amount of Pacific cod from trawl catcher vessels (3,083 metric tons (mt)), American Fisheries Act (AFA) trawl catcher/processors (205 mt), and jig vessels (94 mt) to hook-and-line catcher/processors (2,732 mt) and pot catcher/processors (650 mt) in the Bering Sea and Aleutian Islands management area (BSAI). This action is necessary to allow the 2017 total allowable catch of Pacific cod to be harvested.

DATES: Effective November 29, 2017through 2400 hours, Alaska local time (A.l.t.), December 31, 2017.

FOR FURTHER INFORMATION CONTACT: Josh Keaton, 907-586-7228.

SUPPLEMENTARY INFORMATION: NMFS manages the groundfish fishery in the Bering Sea and Aleutian Islands (BSAI) according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2017 Pacific cod total allowable catch (TAC) in the BSAI specified for trawl catcher is 47,246 metric tons (mt), for AFA trawl catcher/processors is 4,917 mt, and for jig vessels is 107 mt as established by the final 2017 and 2018 harvest specifications for groundfish in the BSAI (82 FR 11826, February 27, 2017) and reallocations (82 FR 47162, October 11, 2017, 82 FR 43503, September 18, 2017 and 82 FR 41899, September 5, 2017). The Administrator, Alaska Region, NMFS, (Regional Administrator) has determined that trawl catcher vessels will not be able to harvest 3,083 mt of the remaining 2017 Pacific cod TAC allocated to those vessels under § 679.20(a)(7)(ii)(A)(9), The Regional Administrator has determined that AFA trawl catcher/processors will not be able to harvest 205 mt of the remaining 2017 Pacific cod TAC allocated to those vessels under § 679.20(a)(7)(ii)(A)(7). The Regional Administrator has determined that jig vessels will not be able to harvest 94 mt of the remaining 2017 Pacific cod TAC allocated to those vessels under § 679.20(a)(7)(ii)(A)(1).

Therefore, in accordance with § 679.20(a)(7)(iii), taking into account the capabilities of the sectors to harvest reallocated amounts of Pacific cod, and following the hierarchies set forth in § 679.20(a)(7)(iii)(A) and § 679.20(a)(7)(iii)(B), NMFS reallocates 2,732 mt of Pacific cod to hook-and-line catcher/processors and 650 mt to pot catcher/processors.

The harvest specifications for Pacific cod included in the final 2017 harvest specifications for groundfish in the BSAI (82 FR 11826, February 27, 2017) and two inseason adjustments (82 FR 8905, February 1, 2017 and 82 FR 41899, September 5, 2017) are revised as follows: 44,163 mt for trawl catcher vessels, 4,712 for AFA trawl catcher/processors, 13 mt for jig vessels, 106,444 mt for hook-and-line catcher/processors, and 4,844 mt pot catcher/processors.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of Pacific cod specified from trawl catcher vessels, AFA catcher/processors, and jig gear to hook-and-line catcher/processors and pot catcher/processors in the BSAI management area. Since most of these fisheries are currently open, it is important to immediately inform the industry as to the revised allocations. Immediate notification is necessary to allow for the orderly conduct and efficient operation of this fishery, to allow the industry to plan for the fishing season, and to avoid potential disruption to the fishing fleet as well as processors. NMFS was unable to publish a notice providing time for public comment because the most recent, relevant data only became available as of November 21, 2017.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: November 29, 2017.
Emily H. Menashes,
Acting Director, Office of Sustainable Fisheries, National Marine Fisheries Service.

[FR Doc. 2017-26044 Filed 11-29-17; 4:15 pm]

BILLING CODE 3510-22-P